DEPARTMENT OF JUSTICE

Notice of Lodging of Proposed Consent Decree Under the Clean Water Act

Under 28 CFR 50.7, notice is hereby given that on December 16, 2004, a proposed Consent Decree in United States v. District of Columbia Water and Sewer Authority, et al., Consolidated Civil Action 1:CV00183TFH, was lodged with the United States District Court for the District of Columbia.

In February 2000, Citizen Plaintiffs environmental groups sued the District of Columbia Water and Sewer Authority (“WASA”) for violations of the Clean Water Act arising from its discharges from the combined sewer of wastewater containing untreated sewage and other pollutants into the Anacostia River, the Potomac River, and Rock Creek in the District of Columbia. The United States filed suit in December 2000, against both WASA and the District of Columbia. The United States alleged several claims, including that WASA's discharges from the combined sewer violated the terms of its National Pollutant Discharge Elimination System (“NPDES”) permit and Section 301 of the Clean Water Act, 33 U.S.C. 1311. The two cases were consolidated.

Plaintiffs' other claims, claims for civil penalty and liability issues in the case were previously resolved through stipulations or a partial consent decree entered by the court in October 2003.

The consent decree lodged today resolves the remaining claim of the United States in the case. It requires WASA to construct and operate a system of pumps and tunnels to create additional storage in the combined sewer, which is expected to reduce the volume and frequency of the combined sewer discharges. The construction projects, which WASA estimates will cost more than $1.265 billion to plan, design, and construct, will be built over a twenty (20) year period.

The Department of Justice will receive for a period of thirty (30) days from the date of this publication comments relating to the proposed Consent Decree. Comments should be addressed to the Assistant Attorney General, Environment and Natural Resources Division, P.O. Box 7611, U.S. Department of Justice, Washington, DC 20044-7611, and should refer to United States v. District of Columbia Water and Sewer Authority, DOJ # 90-5-1-1-07137 and Consolidated Civil Action No. 1:CV00183TFH.

The Consent Decree may be examined at the Office of the United States Attorney, District of Columbia, c/o Brian Sonfield, 501 Third Avenue, NW., Washington, DC 20001, and at U.S. EPA Region III, 1650 Arch Street, Philadelphia, PA 19103-2029. During the public comment period, the Consent Decree many also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $162.00 (25 cents per page) payable to the U.S. Treasury.

Robert Brook,
Assistant Chief, Environmental Enforcement Section, Environment and Natural Resources Division.

[FR Doc. 05-211 Filed 1-4-05; 8:45 am]

BILLING CODE 4410-15-M